FEDERAL COMMUNICATIONS COMMISSION

Deletion of Item From Sunshine Act Meeting

May 7, 2018.

The following item has been deleted from the list of items scheduled for consideration at the Thursday, May 10, 2018, Open Meeting and previously listed in the Commission's Notice of May 3, 2018.

5 | MEDIA | TITLE: Hearing Designation Order
|  | SUMMARY: The Commission will consider a Hearing Designation Order.

Federal Communications Commission.
Marlene Dortch,
Secretary.

[FR Doc. 2018-10407 Filed 5-11-18; 11:15 am]

BILLING CODE 6712-01-P